DEPARTMENT OF DEFENSE

Department of the Army Corps of Engineers

Intent To Prepare a Supplemental Environmental Impact Statement (SEIS) for Modifications to Operation and Maintenance Dredging Activities on the Black Warrior and Tombigbee Rivers, Alabama

AGENCY: U.S. Army Corps of Engineers, DoD.

ACTION: Notice of intent.

SUMMARY: The Mobile District, U.S. Army Corps of Engineers intends to prepare a SEIS. Operation and maintenance (O&M) dredging needs on the Black Warrior and Tombigbee Rivers (BWT Waterway) have been dynamic over time as has sediment transport. Removal of sediment deposited in the navigation channel has resulted in the need for additional within-bank and upland disposal areas. Diminishing disposal area capacity primarily in upland disposal areas, has begun to impact operation and maintenance dredging activities at several locations along the BWT Waterway. Rock formations have also been identified that are impacting the navigation channel. The Mobile District will evaluate dredging and disposal area needs, develop and evaluate alternatives for long-term operation and maintenance dredging on the BWT Waterway and recommend an environmentally and economically sound plan.

FOR FURTHER INFORMATION CONTACT: Questions about the SEIS can be answered by: Mr. Steve Hrabovsky; Inland Environment Section; U.S. Army Engineer District-Mobile; Post Office Box 2288; Mobile, Alabama 36628-0001; Telephone (334) 690-2872; Fax (334) 694-3815. Mr. Hrabovsky can also be reached by e-mail (steven.l.hrabovsky@sam. usace.army.mil).

SUPPLEMENTARY INFORMATION: The Black Warrior and Tombigbee Rivers Project was authorized by Congress in various River and Harbor Acts from 1884-1986 for the primary purpose of navigation. Construction of the project was completed to existing channel dimensions in 1938. Other project purposes include hydroelectric power, public recreation, regulation of stream flow, water quality, fish and wildlife conservation and fish and wildlife mitigation. O&M dredging activities on the BWT Waterway have been discussed in two environmental impact statements (EISs) prepared by the Corps: (1) Final EIS Black Warrior and Tombigbee Rivers (Maintenance), Alabama, filed with the Council on Environmental Quality on April 16, 1976; and (2) Final Supplement to the Final EIS Black Warrior and Tombigbee Rivers, Alabama (Maintenance), filed with the Council on Environmental Quality on April 13, 1987. However, the dynamics of the river system have forced more changes to meet current O&M needs. The Mobile District has identified additional within-bank disposal areas that are required due to changing sedimentation patterns; additional upland disposal areas required to supplement existing upland sites or establish disposal area capacity in other portions of the BWT Waterway; and changes to the list of small boat access channels to potentially be dredged. These changes to the small boat access channel list consist primarily of corrections/updates in name and river mile number, as well as, dredging quantities and frequency. In addition to the items listed above the Mobile District proposes to use blasting as an O&M tool to remove rock from the navigation channel at various locations along the BWT Waterway, which would constitute a change to current dredging practices.

Proposed Action and Alternatives

The Mobile District will formulate and evaluate alternatives to address long-term operation and maintenance dredging needs on the BWT Waterway. The “no action” alternative evaluation will consist of continuation of the “status quo” operation and maintenance dredging activities. Another alternative that the Corps will evaluate is hauling of dredged material from the existing disposal sites for beneficial or other potential commercial uses. This could potentially negate or reduce the need to obtain additional upland disposal areas.

Scoping

The Mobile District will conduct public scoping meetings at Jackson and Tuscaloosa, Alabama during the month of April 2000. As soon as dates of the public scoping meetings have been established, they will be published in local newspapers serving the various cities along the Waterway. The purpose of the meetings will be to gather information from the public about the issues they would like to see addressed in the SEIS. Comments may be made orally or in writing at the meetings, or they may be sent to the Mobile District at the address listed above. Potentially significant issues that will be analyzed in depth in the SEIS include environmental and economic impacts of various dredging and disposal alternatives (e.g., within-bank disposal areas, upland disposal areas, rock removal via blasting, and small boat access channels) on fisheries, waterfowl, water quality, endangered and threatened species, wetlands, cultural resources and wildlife habitat. The evaluation will consider potential direct and indirect effects of these options on the BWT Waterway.

Environmental Review and Consultation Requirements

Coordination with the U.S. Fish and Wildlife Service will be accomplished in compliance with Section 7 of the Endangered Species Act. Coordination required by other laws and regulations will also be conducted.

SEIS Preparation

The Mobile District estimates that the draft SEIS will be available for public review in July 2000.

Gregory D. Showalter,
Army Federal Register Liaison Officer.

[FR Doc. 00-7392 Filed 3-24-00; 8:45 am]

BILLING CODE 3710-CR-U